DEPARTMENT OF COMMERCE

National Oceanic and Atmospheric Administration

RIN 0648-XF215

Endangered Species; File No. 20315

AGENCY: National Marine Fisheries Service (NMFS), National Oceanic and Atmospheric Administration (NOAA), Commerce.

ACTION: Notice; receipt of an application for a permit modification.

SUMMARY: Notice is hereby given that Kristen Hart, Ph.D., U.S. Geological Survey, 3205 College Ave., Davie, FL 33314 has requested a permit modification to Permit No. 20315.

DATES: Written, telefaxed, or email comments must be received on or before March 8, 2019.

ADDRESSES: The application and related documents are available for review by selecting “Records Open for Public Comment” from the “Features” box on the Applications and Permits for Protected Species (APPS) home page, https://apps.nmfs.noaa.gov, and then selecting File No. 20315-04 from the list of available applications.

These documents are also available upon written request or by appointment in the Permits and Conservation Division, Office of Protected Resources, NMFS, 1315 East-West Highway, Room 13705, Silver Spring, MD 20910; phone: (301) 427-8401; fax: (301) 713-0376.

Written comments on the application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application would be appropriate.

FOR FURTHER INFORMATION CONTACT: Erin Markin or Amy Hapeman, (301) 427-8401.

SUPPLEMENTARY INFORMATION: The subject permit modification is requested under the authority of the Endangered Species Act of 1973, as amended (ESA; 16 U.S.C. 1531 et seq.) and the regulations governing the taking, importing, and exporting of endangered and threatened species (50 CFR parts 222-226).

Permit No. 20315 issued on August 11, 2017 (82 FR 11181) authorizes Dr. Hart to take green (Chelonia mydas), hawksbill (Eretmochelys imbricata), and loggerhead (Caretta caretta) sea turtles for research in in the U.S. Virgin Islands, including Buck Island Reef National Monument, Virgin Islands Coral Reef National Monument, and Virgin Islands National Park. Researchers may conduct vessel surveys for sea turtle counts, captures (by hand or dip, tangle, and cast nets), examination, observation, marking, biological sampling, tagging, and morphometrics. The objectives of the research are to identify inter-nesting habitats, foraging zones, and movement corridors and characterize fine- and broad-scale spatial and temporal patterns of sea turtle habitat use. The permit holder requests authorization to add a new research project that requires the following changes to the permit: (1) Add new objectives to assess the population structure and describe fine scale dive profiles for turtle species; (2) expand the research area to include the Dry Tortugas to Appalachicola Florida, Florida Keys, Everglades and Biscayne National Parks, and the Atlantic coast up to the North Carolina/Virginia border; (3) increase the annual number of sea turtles that may be taken (an additional 240 green, 140 hawksbill, and 190 loggerhead), and add takes of another species (60 Kemp's ridley [Lepidochelys kempii] sea turtles) for study; (4) add methods to include strike nets as a capture method and to obtain animals for study that were captured by another legal authority in lieu of directed capture efforts; and (5) extend the duration of the permit until September 30, 2026.

Dated: February 1, 2019.
Julia Marie Harrison,
Chief, Permits and Conservation Division, Office of Protected Resources, National Marine Fisheries Service.

[FR Doc. 2019-01203 Filed 2-5-19; 8:45 am]

BILLING CODE 3510-22-P